DEPARTMENT OF TRANSPORTATION

Federal Aviation Administration

14 CFR Part 23

Airworthiness Standards: Normal, Utility, Acrobatic, and Commuter Category Airplanes

CFR Correction

In Title 14 of the Code of Federal Regulations, Parts 1 to 59, revised as of January 1, 2006, on page 312, in § 23.1511, remove paragraphs (a)(2)(i) and (a)(2)(ii).

[FR Doc. 06-55518 Filed 5-26-06; 8:45 am]

BILLING CODE 1505-01-D